DEPARTMENT OF JUSTICE

Immigration and Naturalization Service

[INS No. 2094-00; AG Order No. 2331-2000]

RIN 1115-AE 26

Extension of Designation of Sudan Under the Temporary Protected Status Program

AGENCY: Immigration and Naturalization Service, Justice.

ACTION: Notice.

SUMMARY: The designation of Sudan under the Temporary Protected Status (TPS) program expired on November 2, 2000. This notice extends the Attorney General's designation of Sudan under the TPS program for 12 months until November 2, 2001, and sets forth procedures necessary for nationals of Sudan (or aliens having no nationality who last habitually resided in Sudan) with TPS to register for the additional 12-month period. Eligible nationals of Sudan (or aliens having no nationality who last habitually resided in Sudan) may re-register for TPS and an extension of employment authorization. Re-registration is limited to persons who registered during the initial registration period, which ended on November 3, 1998, who registered under the redesignation, which ended November 2, 2000, or who registered under the late initial registration provisions. Nationals of Sudan (or aliens having no nationality and who last habitually resided in Sudan) who are eligible for late initial registration may register for TPS during this extension.

EFFECTIVE DATES: The extension of the TPS designation for Sudan is effective November 2, 2000, and will remain in effect until November 2, 2001. The 30-day re-registration period begins November 9, 2000, and will remain in effect until December 11, 2000.

FOR FURTHER INFORMATION CONTACT: Rebecca K. Peters, Residence and Status Services Branch, Adjudications, Immigration and Naturalization Service, Room 3214, 425 I Street, NW., Washington, DC 20536, telephone (202) 514-4754.

SUPPLEMENTARY INFORMATION:

What Is the Statutory Authority for the Attorney General To Extend Sudan's TPS Designation Under the TPS Program?

Section 244(b)(3)(A) of the Immigration and Nationality Act (Act) states that at least 60 days before the end of an extension or a designation, the Attorney General must review conditions in the foreign state for which the designation is in effect. 8 U.S.C. 1254a(b)(3)(A). If the Attorney General determines that the foreign state continues to meet the conditions for designation, the period of designation is extended pursuant to section 244(b)(3)(C) of the Act. 8 U.S.C. 1254a(b)(3)(c). With respect to Sudan, such an extension makes TPS available only to persons who have been continuously physically present since November 9, 1999, and have continuously resided in the United States from November 9, 1999.

Why Did the Attorney General Decide To Extend the TPS Designation for Sudan?

On November 4, 1997, the Attorney General designated Sudan for TPS for a period of 12 months (62 FR 59737). Since that date, the Departments of State and Justice have annually reviewed conditions within Sudan, resulting in the Attorney General extending the designation in 1998 (63 FR 59337), and extending the designation and redesignating Sudan in 1999 (64 FR 61128). The Departments of State and Justice have recently reviewed conditions within Sudan. The review resulted in a consensus that a further 12-month extension is warranted. The reasons for extension, as explained in a State Department memorandum, are as follows: “Civil war continues in Sudan, causing extensive displacement of populations and violations of human rights. Insecurity and forced population relocations and insecurity have destroyed most of the indigenous trading and production systems. The risk of famine continues as fighting impedes relief efforts.'' Based on this year's review, the Attorney General finds that conditions in Sudan warrant a 12-month extension of the designation of Sudan under section 244(b)(3)(C) of the Act. 8 U.S.C. 1254a(b)(3)(C). Because the Attorney General did not determine, at least 60 days before the end of the designation period, that the conditions in Sudan no longer warrant TPS, the designation was automatically extended six months by operation of statute on November 2, 2000. 8 U.S.C. 1254a(b)(3)(C). On the basis of the most recent findings, the Attorney General finds that the TPS designation for Sudan should be extended for an additional 12-month period, rather than the six month period resulting from the automatic extension.

If I Currently Have TPS Through the Sudan TPS Program, Do I Still Need To Register for an Extension and How Do I Do So?

If you have already been granted TPS through the Sudan TPS Program, your TPS expired on November 2, 2000. Persons previously granted TPS under the Sudan program may apply for an extension by filing a Form I-821, Application for Temporary Protected Status, without the fee, during the re-registration period that begins November 9, 2000 and ends December 11, 2000. Additionally, you must file a Form I-765, Application for Employment Authorization. To determine whether or not you must submit the one-hundred dollar ($100) filing fee with the Form I-765, see the chart below.

If . . . | Then . . .
You are applying for employment authorization until November 2, 2001 | You must complete and file the Form I-765, Application for Employment Authorization, with the one-hundred dollar ($100) fee.
You have employment authorization until November 2, 2001, or do not require employment authorization | You must complete and file the Form I-765, Application for Employment Authorization, with no fee.
You are applying for employment authorization and are requesting a fee waiver | You must complete and file Form I-765 and a fee waiver request and affidavit (and any other information) in accordance with 8 CFR 244.20.

To re-register for TPS, you must also include two identification photographs (1½′ × 1½′).

Where Must I File for an Extension of TPS?

Nationals of Sudan (or aliens who have no nationality and who last habitually resided in Sudan) seeking to register for the extension of TPS must submit an application and accompanying materials to the Immigration and Naturalization Service (Service) district office that has jurisdiction over the applicant's place of residence.

When Must I File for an Extension of TPS?

The 30-day re-registration period begins November 9, 2000, and will remain in effect until December 11, 2000.

How Does an Application for TPS Affect My Application for Asylum or Other Immigration Benefits?

An application for TPS does not affect an application for asylum or any other immigration benefit. A national of Sudan (or alien having no nationality who last habitually resided in Sudan) who is otherwise eligible for TPS and has applied for, or plans to apply for, asylum, but who has not yet been granted asylum or withholding of removal, may also apply for TPS. Denial of an application for asylum or any other immigration benefit does not affect an applicant's ability to register for TPS, although the grounds of denial may also be grounds of denial for TPS. For example, a person who has been convicted of a particularly serious crime is no eligible for asylum or TPS. 8 U.S.C. 1158(b)(2); 8 U.S.C. 1254a(c)(2)(B).

Does This Extension Allow Nationals of Sudan (or Aliens Having No Nationality Who Last Habitually Resided in Sudan) Who Entered the United States After November 9, 1999, To File for TPS?

No. This is a notice of an extension of the TPS designation for Sudan, not a notice of redesignation for Sudan for TPS. An extension of TPS does not change the required dates of continuous residence and continuous physical presence in the United States and does not expand TPS availability to include nationals of Sudan (or aliens having no nationality who last habitually resided in Sudan) who arrived in the United States after the date of the most recent redesignation, in this case, November 9, 1999.

Is Late Initial Registration Possible?

Yes. In addition to timely re-registration, late initial registration is possible for some persons from Sudan under 8 CFR 244.2(f)(2). To apply for late initial registration an applicant must:

(1) be a national of Sudan (or an alien who has no nationality and who last habitually resided in Sudan);

(2) have been continuously physically present in the United States since November 9, 1999;

(3) have continuously resided in the United States since November 9, 1999; and,

(4) be admissible as an immigrant, except as provided under section 244(c)(2)(A) of the Act, and not ineligible under section 244(c)(2)(B) of the Act.

Additionally, the applicant must be able to demonstrate that, during the registration period from November 9, 1999, through November 2, 2000, he or she:

(1) was a nonimmigrant or had been granted voluntary departure status or any relief from removal,

(2) had an application for change of status, adjustment of status, asylum, voluntary departure or any relief from pending or subject to further review or appeal,

(3) was a parolee or had a pending request for reparole, or

(4) was the spouse or child of an alien currently eligible to be a TPS registrant. 8 CFR 244.2(f)(2).

An applicant for late initial registration must register no later than sixty (60) days from the expiration or termination of conditions described above. 8 CFR 244.2(g).

Notice of Extension of Designation of Sudan Under the TPS Program

By the authority vested in me as Attorney General under sections 244(b)(3)(A) and (C), and (b)(1) of the Act, I have consulted with the appropriate Government agencies concerning whether the conditions under which Sudan was designated for TPS continue to exist. As a result, I determine that the conditions for the designation of TPS for Sudan continue to be met. 8 U.S.C. 1254a(b)(3)(A). Accordingly, I order as follows:

(1) The designation of Sudan under section 244(b) of the Act is extended for an additional 12-month period from November 2, 2000, until November 2, 2001. 8 U.S.C. 1254a(b)(3)(C).

(2) I estimate that there are approximately 1,500 nationals of Sudan (or aliens who have no nationality and who last habitually resided in Sudan) who have been granted TPS and who are eligible for re-registration.

(3) In order to be eligible for TPS during the period from November 2, 2000, to November 2, 2001, a national of Sudan (or alien who has no nationality and who last habitually resided in Sudan) who has already received a grant of TPS under the Sudan TPS designation or who is eligible to file under the late filing provisions of 8 CFR 244.2(f)(2), must register for TPS by filing a new Application for Temporary Protected Status, Form I-821, along with an Application for Employment Authorization, Form I-765, within the 30-day period beginning on November 9, 2000 and ending on December 11, 2000. Late registration will be allowed only for good cause shown pursuant to 8 CFR 244.17(c).

(4) Pursuant to section 244(b)(3)(A) of the Act, the Attorney General will review, at least 60 days before November 2, 2001, the designation of Sudan under the TPS program to determine whether the conditions for designation continue to be met. 8 U.S.C. 1254a(b)(3)(A). Notice of that determination, including the basis for the determination, will be published in the Federal Register 8 U.S.C. 1254a(b)(3)(A).

(5) Information concerning the TPS program for nationals of Sudan (or aliens who have no nationality and who last habitually resided in Sudan) will be available at local Service offices upon publication of this notice.

Dated: November 2, 2000.
Janet Reno,
Attorney General.

[FR Doc. 00-28748 Filed 11-8-00; 8:45 am]

BILLING CODE 4410-10-M